DEPARTMENT OF TRANSPORTATION

Federal Aviation Administration

Notice of Submission Deadline for International Arrival Authorizations at Chicago O'Hare International Airport for the Summer 2008 Scheduling Season

AGENCY: Department of Transportation, Federal Aviation Administration (FAA).

ACTION: Notice of submission deadline.

SUMMARY: The FAA announces on October 11, 2007, deadline for submitting requests for international Arrival Authorizations at Chicago O'Hare International Airport (ORD) for allocation under 14 CFR 93.29. The deadline coincides with the submission deadline established by the International Air Transport Association (IATA) for the Summer 2008 Schedules Conference.

The U.S. summary scheduling season is from March 9, 2008 through November 1, 2008, in recognition of the U.S. daylight saving time dates. The FAA is aware that the IATA summer 2008 season is March 30, 2008 through October 25, 2008. The FAA will accept schedule changes that coincide with the IATA scheduling season, rather than U.S. daylight saving dates, in order to ease the administrative burdens on carriers conducting international operations and in order to ensure that FAA has the most accurate schedule information. Schedules for the beginning or end of a U.S. scheduling season may be reviewed at the winter or summer schedules conference, as appropriate.

The FAA limits arrivals at ORD from 7 a.m. to 9 p.m., Central Time, Monday through Friday, and 12 p.m. to 9 p.m., on Sunday, based primarily on runway capacity limits. The FAA's restrictions at ORD are the equivalent of a Level 3 Full Coordinated Airport as used in the IATA Worldwide Scheduling Guidelines. Separate schedule facilitation is done at the airport level for international passenger flights operating at Terminal 5. Carriers also should file Terminal 5 schedules, if appropriate, to the address listed in the IATA Worldwide Scheduling Guidelines, Annex 3.

DATES: Requests for international schedule approval must be submitted no later than October 11, 2007.

ADDRESSES: Requests may be submitted by mail to Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: Komal Jain, Regulations Division, Office of the Chief Counsel, Federal Aviation Administration, 800 Independence Avenue, SW., Washington, DC 20591; telephone number: 202-267-3073.

Issued in Washington, DC on September 12th 2007.
James W. Whitlow,
Deputy Chief Counsel.

[FR Doc. 07-4605 Filed 9-17-07; 8:45 am]

BILLING CODE 4910-13-M